DEPARTMENT OF THE INTERIOR

National Park Service

National Register of Historic Places; Notification of Pending Nominations

Nominations for the following properties being considered for listing in the National Register were received by the National Park Service before September 30, 2000. Pursuant to section 60.13 of 36 CFR part 60, written comments concerning the significance of these properties under the National Register criteria for evaluation may be forwarded to the National Register, National Park Service, 1849 C St. NW, NC400, Washington, DC 20240. Written comments should be submitted by October 25, 2000.

Carol D. Shull,
Keeper of the National Register.

ARIZONA

Maricopa County

Angulo—Hostetter House, 150 North Wilbur, Mesa, 00001266

ARKANSAS

Jefferson County

Strengthen the Arm of Liberty Monument—Pine Bluff, 10th Ave. bet. Georgia and State Sts., Pine Bluff, 00001265

Washington County

Strengthen the Arm of Liberty Monument—Fayetteville, North St., NE of jct. with Park Ave., Fayetteville, 00001264

CALIFORNIA

Marin County

Lyford, Benjamin and Hilarita, House, 376 Greenwood Beach Rd., Tiburon, 00001268

Riverside County

Victoria Avenue, Victoria Ave., from Arlington Ave. to Boundary Ln., Riverside, 00001267

Sacramento County

Runyon House, 12865 River Rd., Courtland, 00001270

IDAHO

Shoshone County

Chicago, Milwaukee, St. Paul and Pacific Railroad Company Historic District, Idaho Panhandle National Forest, Avery, 00001269

MARYLAND

Carroll County

Warfield Complex, Hubner, and T Buildings, Springfield Hospital Center, Sykesville, 00001271

MASSACHUSETTS

Essex County

Norwood—Hyatt House, 704 Washington St., Gloucester, 00001272

Middlesex County

Marcia Browne Junior High School, 295 Broadway, Malden, 00001273

NEW MEXICO

Taos County

Black Copper Mine and Stamp Mill Historic District, Black Copper Canyon Rd., Red River, 00001274

NEW YORK

Albany County

Lil's Diner, 893 Broadway, Albany, 00001278

Richmond County

Our Lady of Mount Carmel Grotto, 36 Amity St., Staten Island, 00001276

Rockland County

Peck, Henry M., House, US 9W at Helen Hayes Hospital, Haverstraw, 00001279

Ulster County

Bruynswick School No. 8, 2146 Bruynswick Rd., Shawangunk, 00001277

Trapps Mountain Hamlet Historic District, Off NY 44/55, Gardiner, 00001275

[FR Doc. 00-25895 Filed 10-6-00; 8:45 am]

BILLING CODE 4310-70-P